DEPARTMENT OF THE INTERIOR

National Park Service

[NPS-WASO-NAGPRA-NPS0036804; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh has completed an inventory of human remains and associated funerary objects and has determined that there is a cultural affiliation between the human remains and associated funerary objects and Indian Tribes or Native Hawaiian organizations in this notice. The human remains and associated funerary objects were removed from Green Lake County, WI.

DATES: Repatriation of the human remains and associated funerary objects in this notice may occur on or after November 24, 2023.

ADDRESSES: Adrienne Frie, University of Wisconsin Oshkosh, 800 Algoma Boulevard, Oshkosh, WI 54901, telephone (920) 424-1365, email friea@uwosh.edu.

SUPPLEMENTARY INFORMATION: This notice is published as part of the National Park Service's administrative responsibilities under NAGPRA. The determinations in this notice are the sole responsibility of the University of Wisconsin Oshkosh. The National Park Service is not responsible for the determinations in this notice. Additional information on the determinations in this notice, including the results of consultation, can be found in the inventory or related records held by the University of Wisconsin Oshkosh.

Description

In 1954, human remains representing, at minimum, two individuals were removed from the Progressive Rod and Gun Club Site (47-GL-0186) in Green Lake County, WI, by John (Jack) Steinbring during a surface survey. After removing the remains of these individuals, Steinbring kept them and did not report them to Wisconsin Historical Society. In the 1960s, when he began working at the University of Winnipeg in Canada, Steinbring took the individuals with him, and in the early 1990s, when he retired, he shipped the individuals back to Wisconsin. In 1994, Steinbring donated the remains of these individuals to the University of Wisconsin Oshkosh, and in 2022, employees at the University of Wisconsin Oshkosh identified them while inventorying the finds from the site. The 72 associated funerary objects are one lot consisting of likely domesticated dog cranial fragments; one medium-sized canid axis vertebra; one medium-sized canid left femur; one medium-sized canid left ulna; one medium-sized canid left humerus; one medium-sized canid fifth metacarpal; one medium-sized canid left temporal bone; one medium-sized canid left tibia; one medium-sized canid left zygomatic bone; one medium-sized canid lumbar vertebrae; one medium-sized canid metatarsal or metacarpal; one medium-sized canid right ulna; one medium-sized canid right humerus; one medium-sized canid second metacarpal; one medium-sized canid fourth metatarsal; one medium-sized canid right radius; one medium-sized canid right temporal bone; one medium-sized canid right tibia; three medium-sized canid thoracic vertebrae; one lot consisting of medium-sized mammal rib fragments; one lot consisting of unidentified mammal bone fragments; one unidentified mammal cranial fragment; one lot consisting of unidentified medium/large mammal long bone fragments; one biface preform; one lot consisting of unidentifiable unifacial tools; one lot consisting of burins; one lot consisting of scrapers; two lots consisting of unidentifiable bifaces; two lots consisting of Madison projectile points; one lot consisting of Kramer projectile points; one Honey Creek corner-notched projectile point; one Midland projectile point; one lot consisting of Raddatz projectile points; one lot consisting of unidentifiable cores; three lots consisting of lithic debitage; one fire-cracked rock; one lot consisting of bifaces; two unidentifiable bifaces; one lithic drill; one lot consisting of biface/uniface scrapers; one hammerstone; one handstone; one white-colored natural rock; one geologic mineral sample; one unidentifiable white glass fragment; two unidentifiable copper fragments; one lot consisting of soil matrix with potential crushed pottery and unidentifiable bone fragments; three lots consisting of diagnostic Madison ware grit-tempered ceramic rim sherds; five lots consisting of diagnostic grit-tempered ceramic body sherds; four diagnostic Madison ware grit-tempered ceramic body sherds; three undiagnostic grit-tempered ceramic body sherds; one diagnostic grit-tempered ceramic rim sherd; and one lot consisting of diagnostic Point Sauble grit-tempered ceramic rim sherds.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the University of Wisconsin Oshkosh has determined that:

• The human remains described in this notice represent the physical remains of two individuals of Native American ancestry.

• The 72 objects described in this notice are reasonably believed to have been placed with or near individual human remains at the time of death or later as part of the death rite or ceremony.

• There is a relationship of shared group identity that can be reasonably traced between the human remains and associated funerary objects described in this notice and the Assiniboine and Sioux Tribes of the Fort Peck Indian Reservation, Montana; Bad River Band of the Lake Superior Tribe of Chippewa Indians of the Bad River Reservation, Wisconsin; Bay Mills Indian Community, Michigan; Cheyenne River Sioux Tribe of the Cheyenne River Reservation, South Dakota; Chippewa Cree Indians of the Rocky Boy's Reservation, Montana; Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Ho-Chunk Nation of Wisconsin; Iowa Tribe of Kansas and Nebraska; Iowa Tribe of Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau; Reservation of Wisconsin; Lac Vieux Desert Band of Lake Superior Chippewa Indians of Michigan; Little Shell Tribe of Chippewa Indians of Montana; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Oglala Sioux Tribe; Otoe-Missouria Tribe of Indians, Oklahoma; Pokagon Band of Potawatomi Indians, Michigan and Indiana; Prairie Band Potawatomi Nation; Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Santee Sioux Nation, Nebraska; Sault Ste. Marie Tribe of Chippewa Indians, Michigan; Shakopee Mdewakanton Sioux Community of Minnesota; Sisseton-Wahpeton Oyate; Sokaogon Chippewa Community, Wisconsin; Spirit Lake Tribe, North Dakota; St. Croix Chippewa Indians of Wisconsin; Standing Rock Sioux Tribe of North & South Dakota; Turtle Mountain Band of Chippewa Indians of North Dakota; Upper Sioux Community, Minnesota; Winnebago Tribe of Nebraska; and the Yankton Sioux Tribe of South Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 24, 2023. If competing requests for repatriation are received, the University of Wisconsin Oshkosh must determine the most appropriate requestor prior to repatriation. Requests for joint repatriation of the human remains and associated funerary objects are considered a single request and not competing requests. The University of Wisconsin Oshkosh is responsible for sending a copy of this notice to the Indian Tribes identified in this notice.

Authority: Native American Graves Protection and Repatriation Act, 25 U.S.C. 3003, and the implementing regulations, 43 CFR 10.9, § 10.10, and § 10.14.

Dated: October 18, 2023.
Melanie O'Brien,
Manager, National NAGPRA Program.

[FR Doc. 2023-23547 Filed 10-24-23; 8:45 am]

BILLING CODE 4312-52-P